OFFICE OF THE UNITED STATES TRADE REPRESENTATIVE

Trade Policy Staff Committee (TPSC): Request for Identification of Private Sector Experts In Electronic Commerce Who May Wish To Participate in the Work of the Free Trade Area of the Americas (FTAA) Joint Government-Private Sector Committee of Experts on Electronic Commerce (Joint E-Commerce Committee)

AGENCY: Office of the United States Trade Representative.

ACTION: Request for identification of private sector experts on electronic commerce.

SUMMARY: The TPSC seeks to identify U.S. private sector experts on issues related to electronic commerce who may be interested in participating in the work of the FTAA Joint E-Commerce Committee. Interested members of the public are invited to submit written notice of their interest and their qualifications.

DATES: Written expressions of interest in participating in the work of the Joint Committee should be submitted no later than noon on September 13, 2001.

ADDRESSES: Expressions of interest (original plus 20 copies) should be submitted to Gloria Blue, Executive Secretary, Trade Policy Staff Committee, Office of the U.S. Trade Representative, 1724 F St., Fifth Floor, NW, Washington, D.C., 20508. Attn: FTAA Joint E-Commerce Committee-Private Sector Participation.

FOR FURTHER INFORMATION CONTACT: For procedural questions concerning public comments, contact Gloria Blue, Executive Secretary, Trade Policy Staff Committee, Office of the United States Trade Representative, (202) 395-3475. All other questions concerning the Joint E-Commerce Committee may be directed to Walter Bastian, Acting Deputy Assistant Secretary for the Western Hemisphere, U.S. Department of Commerce (202) 482-4325, Walter_Bastian@ita.doc.gov.

SUPPLEMENTARY INFORMATION:

1. Background

At the Second Summit of the Americas in April 1998, in Santiago, Chile, the 34 democratically-elected Western Hemisphere leaders initiated negotiations to create the FTAA no later than the year 2005. They established nine negotiating groups, a consultative group, and two non-negotiating committees, one of which is the Joint E-Commerce Committee, which began its work in August 1998. The trade ministers mandated that both government and private sector experts meet as the Joint E-Commerce Committee to make recommendations on how to increase and broaden the benefits of electronic commerce; the Joint E-Commerce Committee is not a negotiating group.

During 1998-1999, the Government of Barbados chaired the Joint E-Commerce Committee. During 2000-2001, a Uruguayan private sector representative chaired. The Government of Canada is currently chairing the Committee through October 2002 with a Peruvian private sector representative serving as Vice Chair. Acting Deputy Assistant Secretary of Commerce for the Western Hemisphere, Walter Bastian, is leading the U.S. Government-private sector delegation to the Joint E-Commerce Committee.

Status of Work in the Joint Committee: At each of the past two FTAA Ministerial meetings, in Toronto, Canada in November 1999 and Buenos Aires, Argentina in April 2001, trade ministers received, and released to the public, reports prepared by the Joint E-Commerce Committee reflecting the culmination of its discussions over the preceding 18 months on a broad range of electronic commerce issues. The Joint E-Commerce Committee's recommendations on increasing and broadening the benefits of electronic commerce were drafted with the full participation of government and private sector experts from every region in the Hemisphere. FTAA trade ministers committed to share the report and its recommendations with other relevant authorities within their governments. They also instructed the Joint E-Commerce Committee to continue its work as a non-negotiating group and produce further recommendations over the next 18-month period. The “Second Report with Recommendations to Ministers April 9, 2001,” is available in English and Spanish on the USTR website (www.ustr.gov), the official FTAA website (http://www.ftaa-alca.org) and the U.S. Government Electronic Commerce website (http://www.ecommerce.gov).

The Joint E-Commerce Committee met most recently on July 23-24, 2001 in Panama City, Panama. At this meeting, the Joint E-Commerce Committee's government and private sector representatives identified issues to be discussed during the next phase of its work. Over the next year, the Joint E-Commerce Committee will focus on the digital divide (including issues related to access and infrastructure, small and medium sized enterprises, education and training); consumer protection; and e-government. The Joint E-Commerce Committee will make further recommendations to trade ministers for their consideration at the next FTAA Ministerial meeting in October 2002.

2. Private Sector Participation

During 1998-1999, 13 U.S. private sector representatives, reflecting a balance of interests and electronic commerce issue expertise, participated in the work of the Joint E-Commerce Committee. Nineteen (19) U.S. private sector representatives participated during 2000-2001. All had responded to notices in the Federal Register (63 FR 42090, August 6, 1998, 64 FR 26811, May 17, 1999, 65 FR 40, February 29, 2000 and 65 FR 150, August 3, 2000) or to requests to official trade advisors inviting expressions of interest and qualifications to participate in the work of the Joint E-Commerce Committee.

As the Joint E-Commerce Committee focuses on its work for 2001-2002, the TPSC is seeking to solicit interest in new U.S. private sector participation on the Joint E-Commerce Committee. In order to assist the TPSC in identifying U.S. private sector experts on issues related to the Joint E-Commerce Committee's upcoming work, members of the public are invited to submit written notice of their interest and describe their qualifications. Qualifications of interest include: demonstrated expertise in one or more aspects of electronic commerce, such as the digital divide, consumer protection, e-government; knowledge of the Western Hemisphere, including established contacts with foreign private sector interests in the region; an ability and willingness to broadly solicit views from and disseminate information to private sector interests; and familiarity with U.S. and foreign trade and investment policies and obligations and developments in electronic commerce fora.

Written Expression of Interest

Persons wishing to make written expressions of interest should provide the original plus twenty (20) typed copies, to Gloria Blue, Executive Secretary, Trade Policy Staff Committee, Office of the U.S. Trade Representative, 1724 F St., NW, Washington, D.C., 20508, (202) 395-3475, no later than noon, September 6, 2001. If possible, expressions of interest should be submitted before this date.

Business confidential information will be subject to the requirements of 15 CFR 2003.6. Any business confidential material must be clearly marked as such on the cover letter or page and each succeeding page, and must be accompanied by a nonconfidential summary thereof. If the submission contains business confidential information, twenty copies of a public version that does not contain confidential information must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Nonconfidential submissions will be available for public inspection in the USTR Reading Room in the Annex of the Office of the USTR, 1724 F Street, N.W., Room Three, Washington, DC. An appointment to review the file may be made by calling Brenda Webb (202) 395-6186. The Reading Room is open to the public from 10:00 a.m. to 12 noon, and from 1 p.m. to 4 p.m. Monday through Friday.

To be assured of consideration for participation in this round of discussions, expressions of interest should be submitted no later than 12 noon on September 13, 2001.

Carmen Suro-Bredie,
Chair, Trade Policy Staff Committee.

[FR Doc. 01-21735 Filed 8-28-01; 8:45 am]

BILLING CODE 3190-01-P